DEPARTMENT OF ENERGY

Federal Energy Regulatory Commission

[Project No. 14447-004]

L.S. Starrett Company; Notice of Application Accepted For Filing, Soliciting Comments, Motions To Intervene, And Protests

Take notice that the following hydroelectric application has been filed with the Commission and is available for public inspection:

a. Type of Application: Incorporation of modified 30(c) condition 5 into Appendix A and B of the project exemption order.

b. Project No: 14447-004.

c. Date Filed: May 28, 2015.

d. Applicant: L.S. Starrett Company (exemptee).

e. Name of Project: Crescent Street Hydroelectric Project.

f. Location: Millers River in the Town of Athol, Worcester County, Massachusetts.

g. Filed Pursuant to: Federal Power Act, 16 U.S.C. 791a-825r.

h. Applicant Contact: Mr. Steve Walsh, L.S. Starrett Company, 121 Crescent Street, Athol, Massachusetts 01331; phone 978-249-3551.

i. FERC Contact: Mr. Robert Ballantine at 202-502-6289, robert.ballantine@ferc.gov.

j. Deadline for filing comments, motions to intervene, and protests is 30 days from the issuance of this notice by the Commission. All documents may be filed electronically via the Internet. See, 18 CFR 385.2001(a)(1)(iii) and the instructions on the Commission's Web site at http://www.ferc.gov/docs-filing/efiling.asp. If unable to be filed electronically, documents may be paper-filed. To paper-file, an original and seven copies should be mailed to: Secretary, Federal Energy Regulatory Commission, 888 First Street NE., Washington, DC 20426. Commenters can submit brief comments up to 6,000 characters, without prior registration, using the eComment system at http://www.ferc.gov/docs-filing/ecomment.asp. You must include your name and contact information at the end of your comments.

Please include the project number(P-14447-004) on any comments, motions, or recommendations filed.

k. Description of Request: Pursuant to exemption Article 16(d), the exemptee is requesting to amend Appendix A and Appendix B of the Commission's March 1, 2013, Order Granting Exemption From Licensing (5MW or Less) to incorporate a modified condition 5. The appendices contain the mandatory terms and conditions submitted under section 30(c) of the Federal Power Act by the Massachusetts Division of Fisheries and Wildlife (MDFW) and by the U.S. Department of the Interior (Interior). The MDFW and the Interior issued modifications to condition 5 of their terms and conditions and as such, the exemptee is requesting that the Commission amend the exemption order by incorporating the modified terms and conditions. The modification of condition 5 allows the exemptee to operate the project with an approach velocity at the left-side trash rack greater than the 2.0 cubic feet per second as required by the original condition 5, until such time that the MDFW determines that protection for atlantic salmon is necessary. The Interior revision requires additional American eel monitoring during the period of time that the exceedance of the 2.0 cfs approach velocity is allowed.

l. Locations of the Application: A copy of the application is available for inspection and reproduction at the Commission's Public Reference Room, located at 888 First Street NE., Room 2A, Washington, DC 20426, or by calling 202-502-8371. This filing may also be viewed on the Commission's Web site at http://www.ferc.gov using the “eLibrary” link. Enter the docket number excluding the last three digits in the docket number field to access the document. You may also register online at http://www.ferc.gov/docs-filing/esubscription.asp to be notified via email of new filings and issuances related to this or other pending projects. For assistance, call 866-208-3676 or email FERCOnlineSupport@ferc.gov, for TTY, call 202-502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title “COMMENTS”; “PROTESTS”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: July 28, 2015.
Kimberly D. Bose,
Secretary.

[FR Doc. 2015-19068 Filed 8-3-15; 8:45 am]

BILLING CODE 6717-01-P